DEPARTMENT OF HOMELAND SECURITY

Coast Guard

33 CFR Part 165

[Docket No. USCG-2022-0265]

Safety Zones; Recurring Safety Zones in Captain of the Port Sault Sainte Marie Zone for Events Beginning in August 2022

AGENCY: Coast Guard, Department of Homeland Security (DHS).

ACTION: Notification of enforcement of regulation.

SUMMARY: The Coast Guard will enforce established safety zones in the Sault Sainte Marie area listed in Table 1 of this document for maritime events starting in August 2022. This action is necessary and intended to protect the safety of life on navigable waterways. During the enforcement periods, vessels must stay out of the established safety zones and may only enter with permission from the designated representative of the Captain of the Port Sault Sainte Marie.

DATES: The regulations listed in 33 CFR 165.918 will be enforced for the safety zones identified in Table 1 of the SUPPLEMENTARY INFORMATION section below for the dates and times specified.

FOR FURTHER INFORMATION CONTACT: If you have questions about this publication, call or email LT Deaven Palenzuela, Waterways Management division, Coast Guard Sector Sault Sainte Marie, U.S. Coast Guard; telephone 906-635-3223, email ssmprevention@uscg.mil.

SUPPLEMENTARY INFORMATION: The Coast Guard will enforce the safety zones in 33 CFR 165.918 as per the time, dates, and locations in Table 1.

Table 1
[Datum NAD 1983]
Event | Location | Event date
(20) Elk Rapids Harbor Days Fireworks; Elk Rapids, MI | All U.S. navigable waters within the arc of a circle with an approximate 500-foot radius from the fireworks launch site located on a barge in position 44°54′6.95″ N, 85°25′3.11″ W | On August 6, 2022, from 10 p.m. through 10:30 p.m.
(21) Nautical City Fireworks, Rogers City | All U.S. navigable waters within the arc of a circle with an approximate 750-foot radius from the fireworks launch site located near Harbor View Road in position 45°24′59.07.72″ N, 083°47′50.57″ W | On August 7, 2022, from 10 p.m. through 10:30 p.m.

This action is being taken to provide for the safety of life on navigable waterways during the fireworks displays. The regulations for safety zones within the Captain of the Port Sault Sainte Marie Zone, § 165.918, apply for these fireworks displays.

This notification of enforcement is issued under authority of 33 CFR 165.918 and 5 U.S.C. 552(a). In addition to this notification of enforcement in the Federal Register, the Coast Guard will provide the maritime community with advance notification of this enforcement period via Broadcast Notice to Mariners or Local Notice to Mariners. If the Captain of the Port Sault Sainte Marie determines that the safety zone need not be enforced for the full duration stated in this notification, he may use a Broadcast Notice to Mariners to grant general permission to enter the respective safety zone.

Dated: June 22, 2022.
A.R. Jones,
Captain, U.S. Coast Guard, Captain of the Port Sault Sainte Marie.

[FR Doc. 2022-13679 Filed 6-27-22; 8:45 am]

BILLING CODE 9110-04-P